DEPARTMENT OF HEALTH AND HUMAN SERVICES

National Institutes of Health

Center for Scientific Review; Amended Notice of Meeting

Notice is hereby given of a change in the meeting of the Center for Scientific Review Special Emphasis Panel, Small Business: SBIR/STTR Commercialization Readiness Pilot (CRP) Program, May 17, 2022, 2:00 p.m. to 3:00 p.m. at the National Institutes of Health, Rockledge II, 6701 Rockledge Drive, Bethesda, MD 20892, which was published in the Federal Register on May 05, 2022, FR Doc. 2022-09591, 87 FR 26768.

This meeting is being amended to change the format and time from Telephone Conference Call 2:00 p.m.-3:00 p.m. to a Virtual Meeting 2:00 p.m.-5:00 p.m. The meeting is closed to the public.

Dated: May 10, 2022.
Tyeshia M. Roberson-Curtis,
Program Analyst, Office of Federal Advisory Committee Policy.

[FR Doc. 2022-10397 Filed 5-12-22; 8:45 am]

BILLING CODE 4140-01-P